DEPARTMENT OF COMMERCE

National Oceanic and Atmospheric Administration

[Docket No. 011206293-3182-02; I.D. 042605F]

Pacific Halibut Fishery; Guideline Harvest Levels for the Guided Recreational Halibut Fishery

AGENCY: National Marine Fisheries Service (NMFS), National Oceanic and Atmospheric Administration (NOAA), Commerce.

ACTION: Notice of guideline harvest level.

SUMMARY: NMFS provides notice of the guideline harvest level (GHL) for the guided sport halibut fishery (charter fishery) in the International Pacific Halibut Commission (IPHC) regulatory area 2C of 1,432,000 pounds (649.5 mt), and a GHL in the IPHC regulatory area 3A of 3,650,000 pounds (1,655.6 mt). The GHLs are intended to serve as a benchmark for participants in the charter fishery.

DATES: The GHLs are effective beginning 1200 hrs, Alaska local time (A.l.t.), February 1, 2005, and will close at 2400 hours, A.l.t., December 31, 2005. This period is specified by the IPHC as the sport fishing season in all waters of Alaska.

FOR FURTHER INFORMATION CONTACT: Glenn Merrill, 907 586 7228, or email at glenn.merrill@noaa.gov.

SUPPLEMENTARY INFORMATION: NMFS implemented a final rule to establish GHLs in IPHC regulatory areas 2C and 3A for the harvest of Pacific halibut (Hippoglosses stenolepis) by the charter fishery on August 8, 2003 (68 FR 47256). The GHLs are intended to serve as a benchmark for participants in the charter fishery.

This announcement is consistent with 50 CFR 300.65(i)(2), which requires that GHLs for IPHC regulatory areas 2C and 3A be specified by NMFS and announced by publication in the Federal Register no later than 30 days after receiving information from the IPHC which establishes the constant exploitation yield (CEY) for halibut in IPHC regulatory areas 2C and 3A for that year. Based on the regulations at § 300.65(i)(1), the CEY established by the IPHC in 2005 in regulatory area 2C results in a GHL of 1,432,000 pounds (649.5 mt), and, in regulatory area 3A, results in a GHL of 3,650,000 pounds (1,655.6 mt).

This notice is intended to serve as an announcement of the GHL's in Areas 2C and 3A for 2005. If a GHL is exceeded in 2005, based on information received from the Alaska Department of Fish and Game, NMFS will notify the North Pacific Fishery Management Council (Council) in writing within 30 days pursuant to regulations at § 300.65(i)(3). The Council is not required to take action, but may recommend additional management measures after receiving notification that a GHL has been exceeded.

Classification

This notice does not require any additional regulatory action by NMFS and does not impose any additional restrictions on harvests by the charter fishery. This process of notification is intended to provide the Council an indication of the level of harvests by the charter fishery in a given year and could be used to prompt future action.

Authority: 16 U.S.C. 1801 et seq.

Dated: April 26, 2005.
Anne M. Lange
Acting Director, Office of Sustainable Fisheries, National Marine Fisheries Service.

[FR Doc. 05-8696 Filed 4-29-05; 8:45 am]

BILLING CODE 3510-22-S